DEPARTMENT OF THE INTERIOR

Bureau of Land Management

[LLMT001900 L16100000.DP0000 LXSS00065E]

Notice of Availability of the Draft Billings and Pompeys Pillar National Monument Resource Management Plan and Environmental Impact Statement, MT

AGENCY: Bureau of Land Management, Interior.

ACTION: Notice of Availability.

SUMMARY: In accordance with the National Environmental Policy Act (NEPA) of 1969, as amended, and the Federal Land Policy and Management Act (FLPMA) of 1976, as amended, the Bureau of Land Management (BLM) has prepared a combined Draft Resource Management Plan (RMP) and Draft Environmental Impact Statement (EIS) for Billings and Pompeys Pillar National Monument within the Billings Field Office of the BLM Montana/Dakotas State Office and by this notice is announcing the opening of the comment period.

DATES: To ensure that comments will be considered, the BLM must receive written comments on the draft RMP/EIS within 90 days following the date the Environmental Protection Agency publishes this notice of the draft RMP/EIS in the Federal Register.The BLM will announce future meetings or hearings and any other public participation activities at least 15 days in advance through public notices, media releases, and/or mailings.

ADDRESSES: You may submit comments related to the Billings and Pompeys Pillar National Monument draft RMP/EIS by any of the following methods:

• Web site: http://www.blm.gov/mt/st/en/fo/billings_field_office/rmp.html

• Email: BLM_MT_Billings_PompeysPillar_RMP@blm.gov

• Fax: 406-896-5281

• Mail: Bureau of Land Management, Billings Field Office, 5001 Southgate Drive, Billings, MT 59101

Copies of the Billings and Pompeys Pillar National Monument draft RMP/EIS are available in the Billings Field Office at the above address or may be viewed at: http://www.blm.gov/mt/st/en/fo/billings_field_office/rmp.html.

FOR FURTHER INFORMATION CONTACT: Carolyn Sherve-Bybee, RMP Team Lead, 406-896-5234 or Jim Sparks, Billings Field Manager, 406-896-5241; at the above mailing address or via email at: BLM_MT_Billings_PompeysPillar_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area is located in Big Horn, Carbon, Golden Valley, Musselshell, Stillwater, Sweet Grass, Wheatland, and Yellowstone Counties in Montana, and a portion of Big Horn County in Wyoming. This planning area encompasses approximately 434,154 acres of BLM-managed public lands. The RMP will fulfill the needs and obligations set forth by NEPA, FLPMA, and BLM management policies. The planning effort of the Billings and Pompeys Pillar National Monument RMP/EIS will revise the existing Billings RMP of 1984, as amended, and provide the Billings Field Office with an updated framework in which to administer BLM public lands. This draft RMP/EIS addresses new issues, changes in resource conditions, and changes in resource management practices since adoption of the Billings RMP in 1984 and was developed through a collaborative planning process. Formal public scoping began with the publication of the Notice of Intent in the Federal Register on May 15, 2008 (73 FR 28150), a legal document notifying the public and any affected agencies of the intent to revise the 1984 RMP and prepare an EIS, including draft planning criteria for review. The formal public scoping period ended on August 22, 2008; however, scoping comments were received through September 19, 2008.

Public scoping opportunities included seven open houses in communities within the planning area, a mailing of 1,200 scoping packages describing the area and process as well as soliciting written comments, a Web site, and outreach with various Federal and State government agencies. Outreach efforts were also made to tribes and consultation with the tribal governments is ongoing.

The information obtained from the scoping process was used to define the relevant issues that are addressed in a range of alternative management actions, the environmental impacts of which are analyzed in the draft EIS. Based on the scoping comments received and their subsequent analysis and evaluation, the following major planning issues were identified as being within the scope of the BLM Billings and Pompeys Pillar National Monument draft RMP/EIS.

Issue: Vegetation Communities—How can the public lands be managed to provide desired plant communities?

Issue: Wildlife and Fisheries Habitat and Invasive Species—How can public lands be managed to maintain or improve wildlife and fisheries habitats and control invasive species?

Issue: Special Status Species, including Threatened and Endangered Species—How can public lands be managed to conserve and recover threatened, endangered, proposed, and BLM-sensitive species, including Greater Sage-Grouse?

Issue: Commercial Activities—What public lands will be available for commercial activities and how will those activities be managed while protecting the integrity of other resources?

Issue: Recreation Activities—How should recreation activities be managed to satisfy public demand while protecting natural and cultural resource values and provide for visitor safety?

Issue: Motorized and Non-Motorized Uses—How will conflicts between motorized and non-motorized uses be resolved and how will effects to resources from motorized uses be addressed?

Issue: Special Designations—What areas should be designated for special management (e.g., areas of critical environmental concern (ACEC), Wild and Scenic Rivers, etc.) and how should these areas be managed?

Issue: Social and Economic Conditions—How will local social and economic conditions be addressed?

Issue: Pompeys Pillar National Monument—How will the cultural and historic values at Pompeys Pillar National Monument be protected and how will recreation and visitor services at Pompeys Pillar National Monument be managed?

In addition to the no-action alternative, three action alternatives were developed to respond to these key issues:

• Alternative A: Continues existing management practices (no action alternative);

• Alternative B: Emphasizes conservation of natural and cultural resources while providing for compatible development and use;

• Alternative C: Emphasizes resource development and use while protecting natural and cultural resources; and

• Alternative D: Provides development opportunities while protecting sensitive resources (preferred alternative).

Special management areas in the area analyzed by the RMP/EIS include wild and scenic rivers, wilderness study areas, ACECs, research natural areas (RNAs), national historic trails, the Pryor Mountain Wild Horse Range, and Pompeys Pillar National Monument. The BLM Billings Field Office is concerned with applying the appropriate management of these areas to protect the values and resources for which they were designated. The BLM Billings Field Office considered carrying forward or removing current administrative designations (i.e., ACECs), depending on whether they still met the criteria for which they were originally designated. Additional areas were nominated for designation as ACECs and those that met relevance and importance criteria and required special management are proposed in the draft RMP/EIS.

In accordance with 43 CFR 1610.7-2(b) and BLM Manual 1613.32 regarding ACECs, this Notice of Availability announces a concurrent public comment period on proposed ACECs. Alternative B proposes to retain nine ACECs and designate three new ACECs and under this alternative the proposed management is the most restrictive. Alternative B would manage all ACECs as closed to all mineral activity including solid and fluid mineral leasing and would recommend withdrawal of all ACECs from locatable mineral entry. Alternative C proposes to retain nine ACECs and designate two new ACECs and the proposed management is less restrictive than Alternative B. All proposed management in the ACECs is subject to valid existing rights. The proposed ACECs and the most restrictive management (Alternative B) are:

• Pompeys Pillar National Monument and ACEC (432 acres), designated in the 1996 RMP amendment. Values of concern include historical, cultural, biological, geologic, outstanding viewsheds, and unique resources. Proposed use limitations(s): Right-of-way exclusion area (83 acres) and right-of-way avoidance area (349 acres); closed to all mineral leases; closed to geophysical exploration; closed to mineral material disposals and related exploration and development activities; withdrawal from locatable mineral entry all closures are subject to valid existing rights. This ACEC would also be closed to renewable energy development, closed to fuelwood cutting/wood product sales, closed to cremains scattering, and closed to land disposals.

• Bridger Fossil Area ACEC (577 acres), designated in the 1998 RMP amendment. Values of concern include paleontological values and Bridger Fossil Area National Natural Landmark. Proposed use limitation(s): Right-of-way exclusion area; travel is limited to designated roads and trails; closed to all mineral leases, closed to geophysical exploration; closed to mineral material disposals and related exploration and development activities; recommended for withdrawal from locatable mineral entry; closed to renewable energy development; closed to fuel wood cutting/wood product sales, closed to animal trapping/traplines; closed to recreational target shooting; closed to cremains scattering; closed to special recreation permits; and closed to other activities normally requiring a BLM permit.

• Castle Butte ACEC (184 acres), designated in the 1998 RMP amendment. Values of concern—unique cultural values. Proposed use limitation(s): Right-of-way exclusion area, no land disposals, travel limited to designated routes, closed to renewable energy development, closed to geophysical exploration, closed to use of explosives for geophysical exploration for oil and gas, closed to fuel wood cutting/wood product sales, closed to animal trapping/traplines, closed to recreational target shooting, closed to cremains scattering, closed to special recreation use permits, and closed to range improvements.

• East Pryor ACEC (8,301 acres), designated in the 1998 RMP amendment. Values of concern—wild horse and wildlife habitat, unique cultural/historical resources, special status plant species, and paleontological values including values for the Crooked Creek Natural Area and the Crooked Creek National Natural Landmark. Proposed use limitation(s): Right-of-way exclusion area (except valid existing rights), no land disposals, travel limited to designated routes, closed to oil and gas leasing and development, recommended for withdrawal from locatable mineral entry (subject to valid existing rights), closed to solid leasable minerals (subject to valid existing rights), mineral material sales not permitted, closed to renewable energy development, closed to geophysical exploration for oil and gas, use of explosives for geophysical exploration for oil and gas not allowed, fuel wood cutting/wood product sales, closed to livestock grazing within the Pryor Mountain Wild Horse Range boundary except livestock trailing allowed through Bad Pass only, animal trapping/traplines, closed to recreational target shooting, and cremains scattering not allowed.

• Four Dances Natural Area ACEC (784 acres), designated in the 2001 RMP amendment. Values of concern—significant cultural and scenic values, peregrine falcon nesting habitat, and managed for the natural hazards of the cliffs. Proposed use limitation(s): Right-of-way avoidance area; no land disposals; off-highway vehicle use (including bicycles) limited to administrative or authorized use only, no snowmobiles or off-road use, closed to oil and gas leasing, exploration, and development, closed and continued withdrawal from locatable mineral entry, closed and continued withdrawal from solid leasable mineral entry, mineral material sales not allowed, closed to renewable energy development, geophysical exploration for oil and gas not allowed, use of explosives for geophysical exploration for oil and gas not allowed, fuel wood cutting/wood product sales not allowed, buffalo grazing not permitted, range improvements not allowed, animal trapping/traplines not allowed, no discharging of firearms, archery hunting may be allowed if deemed necessary by Montana Fish, Wildlife, and Parks (authorization from BLM required), cremains scattering not allowed, special recreation use permits not allowed, other activities normally requiring a BLM permit not allowed, day use area only, closed to horseback riding, closed to use of fireworks, closed to hang gliding, closed to paint ball activities, closed to exercising pets off leash, and special management/priority would be given to protecting falcon eyries by restricting human activity along the rims that might adversely affect the nesting birds.

• Grove Creek ACEC (8,251 acres), proposed ACEC/not designated in previous RMP or amendments. Values of concern—significant archaeological and traditional cultural values and special status plants. Proposed use limitations(s): Right-of-way exclusion area, no land disposals, travel limited to designated routes, closed to oil and gas leasing, exploration, and development, closed and recommended for withdrawal from locatable mineral entry, closed and recommended for withdrawal from solid leasable mineral entry, mineral materials sales not allowed, geophysical exploration for oil and gas not allowed, use of explosives for geophysical exploration for oil and gas not allowed, fuel wood cutting/wood product sales not allowed, range improvements not allowed, animal trapping/traplines not allowed, closed to recreational target shooting, cremains scattering not allowed, special recreation use permits not allowed, closed to renewable energy development, and other activities normally requiring a BLM permit not allowed.

• Meeteetse Spires ACEC (1,523 acres), designated in the 1998 RMP amendment. Values of concern—protect and enhance unique vegetation (rare plants) and conserve scenic values. Proposed use limitation(s): Right-of-way exclusion area, no land disposals, travel limited to designated routes, plant collecting allowed for scientific use or range/forestry studies only, no collection of special status species plants without a permit, fluid mineral leasing closed (956 acres), no surface occupancy for fluid mineral leasing (567 acres), recommended for withdrawal from locatable mineral entry (956 acres), mineral material sales not allowed, closed to renewable energy development, use of explosives for geophysical exploration for oil and gas not allowed, fuel wood cutting/wood product sales not allowed, closed to livestock grazing, range improvements not allowed, cremains scattering not allowed, special recreation permits not allowed, and other activities normally requiring a BLM permit not allowed.

• Petroglyph Canyon (240 acres), designated in the 1998 RMP amendment. Values of concern—unique cultural values. Proposed use limitation(s): Right-of-way exclusion area, no land disposals, travel limited to designated routes only, plant collecting not allowed, closed and continued withdrawal from locatable mineral entry, closed to solid leasable minerals, mineral materials sales/permits not allowed, closed to renewable energy, geophysical exploration for oil and gas not allowed, use of explosives for geophysical exploration for oil and gas not allowed, no heavy equipment/no retardant/no foam use for fire suppression, fuelwood cutting/wood product sales not allowed, no range improvements allowed, no animal trapping/traplines allowed, closed to recreational target shooting, no cremains scattering allowed, no special recreation permits allowed, and other activities normally requiring a BLM permit not allowed.

• Pryor Foothills RNA ACEC (958 acres), proposed ACEC/not designated in previous RMP or amendments. Values of concern—protect unique vegetation (a large concentration of BLM special status plant species and rare plant communities) and to protect significant historic and cultural values in the Gyp Springs area. Proposed use limitation(s): Right-of-way exclusion area, no land disposals, travel limited to designated routes, plant collecting not allowed, closed to fluid mineral leasing, closed and recommended for withdrawal from locatable mineral entry, closed to solid leasable mineral development, mineral materials sales not allowed, closed to renewable energy development, geophysical exploration not allowed, fuelwood cutting/wood product sales not allowed, no range improvements would be allowed that would result in a net increase of livestock use in this ACEC, closed to recreational target shooting, cremains scattering not permitted, special recreation permits not allowed, and other activities normally requiring a BLM permit not allowed.

• Stark Site ACEC (799 acres), designated in the 1998 RMP amendment. Values of concern—protect unique cultural values. Proposed use limitation(s): Right-of-way exclusion area, no land disposals, travel limited to designated routes, no surface occupancy for fluid mineral leasing, recommended for withdrawal from locatable mineral entry, mineral material sales not allowed, closed to renewable energy development, geophysical exploration for oil and gas not allowed, use of explosives for geophysical exploration for oil and gas not allowed, no heavy equipment/no retardant/no foam use during fire suppression, fuelwood cutting/wood product sales not allowed, range improvements not allowed, animal trapping/traplines not allowed, closed to recreational target shooting, cremains scattering not allowed, special recreation use permits not allowed, and other activities normally requiring a BLM permit not allowed.

• Weatherman Draw ACEC (4,986 acres), designated in the 1998 RMP amendment. Values of concern—protect unique cultural values. Proposed use limitation(s): Right-of-way exclusion area (subject to valid existing rights), no land disposals, travel limited to designated routes, plant collecting not allowed, closed to fluid mineral leasing, 600 acres closed and recommended for continued withdrawal from locatable mineral entry, 4,386 acres closed and recommended for withdrawal from locatable mineral entry, closed to solid leasable mineral entry, mineral material sales not allowed, closed to renewable energy development, geophysical exploration for oil and gas not allowed, fuelwood cutting/wood product sales not allowed, range improvements not allowed, animal trapping/traplines not allowed, closed to recreational target shooting, cremains scattering not allowed, special recreation use permits not allowed, and other activities normally requiring a BLM permit not allowed.

• Greater Sage-Grouse ACEC (154,140 acres), proposed ACEC/not designated in previous RMP or amendments. Values of concern—protect priority habitat for Greater Sage-Grouse. Proposed use limitation(s): Right-of-way exclusion area, no land disposals, closed to fluid mineral leasing, recommended for withdrawal from locatable mineral entry, mineral materials sales not allowed, closed to renewable energy development, geophysical exploration not allowed, special recreation permits allowed only if consistent with goals and objectives for habitat and/or species, prescribed fire not allowed, heavy equipment used for fire suppression not allowed within four miles of sage-grouse nesting habitat (leks), grazing allotments within or containing portions of the ACEC would be designated as management Category I, and other permitted activities considered after site specific analysis that considered values for which the ACEC is designated.

Alternative A proposes to maintain the nine existing ACECs for a total of 37,896 acres. Under Alternative A, 1,675 acres are recommended withdrawn from mineral entry and 32,158 acres are not available for fluid mineral leasing. Alternative B proposes to retain nine ACECs and establish three additional ACECs for a total of 181,175 acres (management listed above). Alternative B would continue to withdraw 1,675 acres from locatable mineral entry, recommend withdrawals from locatable mineral entry for 178,749 acres, and make 179,244 acres unavailable for fluid mineral leasing. Alternative C proposes to retain nine ACECs and establish two additional ACECs for a total of 67,079 acres. Alternative C would continue to withdraw 1,675 acres from locatable mineral entry, recommend withdrawals from locatable mineral entry for 1,914 acres, and make 34,558 acres unavailable for fluid mineral leasing. Alternative D proposes to retain nine ACECs and establish two additional ACECs for a total of 38,786 acres. Alternative D would continue to withdraw 1,675 acres from locatable mineral entry, recommend withdrawals from locatable mineral entry for 20,827 acres, and make 18,716 acres unavailable for fluid mineral leasing.

The preferred alternative (Alternative D) proposes retaining ACEC designation for the following ACECs that are the same acreages as designated in the 1996, 1998, and 2001 RMP amendments: Pompeys Pillar National Monument and ACEC (432 acres), Bridger Fossil Area ACEC (577 acres), Castle Butte ACEC (184 acres), Four Dances Natural Area ACEC (784 acres), Petroglyph Canyon ACEC (240 acres), and Stark Site ACEC (799 acres). The following ACECs were designated in the 1998 RMP amendment, but ACEC boundaries expanded or changed in the preferred alternative:

• East Pryor ACEC (11,122 acres): This acreage is smaller than the 29,550 acres originally designated in 1998 RMP amendment, as the preferred alternative removes overlapping/conflicting management layers. The East Pryor ACEC is located in the same area as three wilderness study areas (WSAs) and the Pryor Mountain Wild Horse Range. In the preferred alternative, the boundaries of the ACEC were changed to exclude the WSAs, as WSAs have the most restrictive management, and the management of the WSAs would provide special management needed for the resource values of concern identified in the East Pryor ACEC. The 1998 boundary of the East Pryor ACEC included only a portion of the Demi-John Flat National Register District. The boundary has been expanded in the preferred alternative to include all of Demi-John Flat National Register District.

• Meeteetse Spires ACEC (956 acres plus 567 acres): The additional 576 acres were acquired from The Conservation Fund by the BLM in 2009 using money received from the Land and Water Conservation Fund. The private land was surrounded on three sides by the Meeteetse Spires ACEC and on one side by the U.S. Forest Service Custer National Forest (Line Creek Plateau RNA). The 567 acres of private land had been subdivided and further development would have threatened the adjoining ACEC.

• Weatherman Draw ACEC (4,365 acres plus 7,912 acres): The proposed 7,912 acre expansion of the ACEC includes the 2009 donation of 621 acres of private land to the BLM.

The preferred alternative (Alternative D) proposes two additional ACECs: Grove Creek ACEC (8,251 acres) and Pryor Foothills RNA ACEC (2,606 acres).

The BLM Billings Field Office conducted an inventory of certain waterways to determine eligibility and suitability for inclusion into the National Wild and Scenic Rivers System for designation by Congress and drafted interim management prescriptions for those waterway segments determined “suitable” in the planning process.

Following the close of the public review and comment period on this draft RMP/EIS, public comments will be used to revise the BLM Billings and Pompeys Pillar National Monument draft RMP/EIS in preparation for its release to the public as the BLM Billings and Pompeys Pillar Proposed RMP and Final EIS. While one combined RMP/EIS has been prepared, two separate Records of Decision (RODS) will be issued for the Billings Field Office and for Pompeys Pillar National Monument. The BLM will respond to each substantive comment by making appropriate revisions to the document or by explaining why a comment did not warrant a change. Notice of the availability of the Proposed RMP and Final EIS will be posted in the Federal Register.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Theresa M. Hanley,
Acting State Director.

[FR Doc. 2013-07196 Filed 3-28-13; 8:45 am]

BILLING CODE 4310-DN-P